DEPARTMENT OF AGRICULTURE

Agricultural Marketing Service

[Docket No. AMS-TM-10-0082; TM-10-02]

Farmers' Market Promotion Program: Notice of Request for Extension and Revision of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget (OMB) for the currently approved the information collection for OMB 0581-0235, an extension and revision of forms “TM-29, FMPP Project Proposal Narrative Form” and “TM-30, FMPP Supplemental Budget Summary Form.” Copies of these voluntary forms to participate in the U.S. Department of Agriculture (USDA) Farmers Market Promotion Program, may be obtained by calling the AMS Marketing Services Branch contact listed.

DATES: Comments received by November 30, 2010 will be considered.

Additional Information: Contact Carmen Humphrey, Branch Chief, Marketing Grants and Technical Assistance Branch, Marketing Services Division, Transportation and Marketing Programs, Agricultural Marketing Service (AMS), USDA; 202-694-4000.

ADDRESSES: Contact Errol R. Bragg, Associate Deputy Administrator, Marketing Services Branch, Transportation and Marketing Programs, AMS, USDA, 1800 M Street, NW., Room 3012-South Tower, Washington, DC 20036; 202/694-4000, or fax 202/694-5949.

Comments should reference docket number AMS-TM-10-0082, TM-10-02 and be sent to Mr. Errol Bragg at the above address or via the Internet at http://www.regulations.gov.

SUPPLEMENTARY INFORMATION:

Title: Farmers Market Promotion Program.

OMB Number: 0581-0235.

Expiration Date of Approval: February 21, 2011.

Type of Request: Extension and revision of a currently approved information collection.

Abstract: The Farmers Market Promotion Program (FMPP) was created through an amendment of the Farmer-to-Consumer Direct Marketing Act of 1976 (7 U.S.C. 3001-3006). The grants authorized by the FMPP, originally funded in 2006 and revised under the 2008 Farm Bill (Pub. L. 110-246), are targeted to help improve and expand domestic farmers markets, roadside stands, community-supported agriculture programs, agritourism activities, and other direct producer-to-consumer marketing opportunities. Approximately $1 million each year was allocated for Fiscal Years (FY) 2006-2007 for the FMPP. The 2008 Farm Bill allocated mandatory funds, from the Commodity Credit Corporation, at $3 million for FY 2008, $5 million for FY 2009-2010, and $10 million for FY 2011-2012. The maximum amount awarded for any one proposal cannot exceed $100,000.

Entities eligible to apply include agricultural cooperatives, producer networks, and producer associations; local governments; nonprofit corporations; public health corporations; economic development corporations; regional farmers market authorities; and Tribal governments.

On March 1, 2010, the AMS published a notice in the Federal Register (75 FR 9155) to announce the availability of 2010 FMPP grant funds under the FMPP. The OMB approved the revision of the information collection 0581-0235 for 3 years on February 21, 2008. The forms and other requirements under the FMPP are as follows:

1. Form SF-424, “Application for Federal Assistance,” (approved under OMB collection number 4040-0004) is required by all entities seeking Federal assistance.

2. Form SF-424A, “Budget Information—Non-Construction Programs,” (approved under OMB collection number 0348-0044) must also be completed by all applicants to show the project's budget breakdown, both as to expense categories and the division between Federal and non-Federal funding sources, as applicable.

3. Form SF-424B, “Assurances—Non-Construction Programs,” (approved under OMB collection number 0348-0040) must also be completed by applicants to assure the Federal government of the applicant's legal authority to apply for Federal assistance.

4. Proposal Narrative. Completed applications must include a proposal narrative, which will include the supplemental budget summary. The proposal narrative, excluding the supplementary budget summary, must be single-sided, typed, un-stapled, and not exceed 12 pages. New requirements are made to the narrative with this submission to include: Requested FMPP funding and match funds; questions regarding EBT, equipment, supplies, and promotional requests; eligibility type in the entity type section; summarizing statements about the project's meeting the evaluation criteria; requiring existing and pending support; and providing a list of all project activities.

The narrative must be organized under the following headings to explain the project work:

a. Project Title. Must capture the primary focus of the project and match the title provided on the SF-424.

b. Applicant/Organization Information. Provide the applicant/organization name, contact name, mailing address, and telephone and fax number. Provide the e-mail address for the person designated to answer questions about the application, financial information, and the proposed project budget.

c. Primary Project Manager Information. Provide the name, mailing address, telephone and fax number, and e-mail address for the person(s) responsible for managing and/or overseeing the project.

d. Requested FMPP Funding and Match Funds. Indicate the dollar amount requested from FMPP. Include other funding sources, matching, and in-kind contributions in the “Matching Funds” section as applicable.

e. Entity Type and Eligibility Statement. Indicate the entity type of the applicant/organization, i.e., an agricultural cooperative, local government, nonprofit corporation, public benefit corporation, economic benefit corporation, regional farmers' market authority, tribal government, or other entity type. Provide and explanation of how the applicant/organization qualifies as an eligible entity. Applications without sufficient information to determine their eligibility will not be considered.

f. EBT, Equipment, Supplies, and Promotional Projects. Answer either “Yes” or “No” to whether your proposal includes a new or existing electronic benefit transfers (EBT) component; or includes purchases of equipment, supplies, or other promotional items.

g. Executive Summary. The proposal summary, not to exceed 200 words, must include the following: A project description, goals to be accomplished, stages of work and resources required, and the expected timeframe for completing all tasks and results.

h. Goals of the Project. Provide a clear statement (one or two sentences) focusing on the ultimate goal(s) and objective(s) of the project.

i. Background Statement. Provide information regarding past, current, and/or future events, conditions, or actions taken that justify the need for the project. Correlate the background and purpose of the activity to support the particular project issue.

j. Workplan and Resource Requirements. Provide a statement that includes the planned scope of work, anticipated stages and timelines, and the resources required to complete the project. A timeline must be provided for the planned work. Identify who will do the work, whether collaborative arrangements or subcontractors will be used, the resource commitments of the collaborators, and the role(s) and responsibilities of each collaborator or project partner.

k. Expected Outcomes and Project Evaluation. Describe what is to be accomplished, the expected results; and how success will be measured at the completion of the project (quantitative and evaluation measurements of the project's impact).

l. Beneficiaries. Identify the individuals, organizations, and/or entities that will benefit from the project outcome and how they will benefit.

m. Evaluation Criteria Statements. All applications will be evaluated against the “Proposal Evaluation Criteria,” published annually, which can be found in the FMPP Guidelines at http://www.ams.usda.gov/FMPP. AMS may change the criteria annually based on the priorities for annual funding. Using the criteria as headings, the applicant must summarize how the project addresses each criterion. Provide references to the appropriate pages and/or sections of the narrative to justify the project's plan and merit.

n. Existing and Pending Support. List all current and pending public or private support. Include personnel identified in the narrative who have committed portions of their time, whether or not salary support for persons involved is included in the budget. An application that duplicates or overlaps substantially with project activities or application already reviewed and funded by another Federal agency will not be funded under FMPP.

o. Supplemental Budget Summary. Provide in sufficient detail information about the budget categories listed on Form SF-424A. This detailed budget information is required. All requested budget items and activities must:

i. Be itemized, listing separately each item, its cost, and use.

ii. Correlate to the purpose/goals of the project and demonstrate that the budget is reasonable and adequate for the proposed work.

iii. Not include matching funds or in-kind work and items.

iv. Be substantiated in a written budget narrative

p. Primary Proposal Activity. Identify one specific activity (only) that meets the proposal's main goal and objective.

q. Proposal Activities. List all other activities (as many as area applicable) that meet the remaining goals and objectives.

5. FMPP Voluntary Narrative Forms. Forms “TM-29, FMPP Project Proposal Narrative Form” and “TM-30, FMPP Supplemental Budget Summary Form” were developed to assist applicants in placing the required information in the proper order in the proposal narrative. These voluntary forms are recommended for use as guidance for the application development and submittal processes. Forms TM-29 and TM-30 are being revised to include instructions to assist applicants in completing the narrative and supplemental budget information.

The instructions for completing the “FMPP Project Proposal Narrative Form” and “FMPP Supplemental Budget Summary Form” for the proposal narrative will increase the total number of burden hours. These burden hours are captured in the proposal narrative.

Before funds are dispersed, applicants that are selected for FMPP grant funds (awardees) must complete the following forms:

6. Form AD-1047, “Certification Regarding Disbarment, Suspension, and Other Responsibility Matters—Primary Covered Transactions.” This form must have the awardee's original signature.

7. Form AD-1048, “Certification Regarding Disbarment, Suspension, Ineligibility and Voluntary Exclusion—Lower Tier Covered Transactions.” This form must have the awardee's original signature.

8. Form AD-1049, “Certification Regarding Drug-Free Workplace Requirements (Grants) Alternative I—For Grantees Other Than Individuals.” The awardee keeps this document for their records.

Additionally, awardees must also complete the following forms and paperwork for AMS:

9. Grant Agreement. The grant agreement is used as It also indicates the agreed upon grant funding dollar amounts and the beginning date and ending date of the project work and the grant agreement. Four (4) copies of this agreement are required with the awardee's and the AMS Administrator's office signatures and dated for each grant.

10. Form SF-270, “Request for Advance and Reimbursement” is required whenever the awardees request an advance or reimbursement of Federal grant funds. AMS expects that at least three (3) SF-270 forms will be submitted during the grant agreement period.

11. Progress Reports. The Progress Report is written documentation required to notify AMS about the work activities and progress towards completing the awardee's established project workplan goals, objectives, and timelines. AMS expects that at least two (2) Progress Reports will be submitted during the grant agreement period.

12. Final Report. The Final Report is written information required by AMS within 90 days after the ending date of the grant agreement. This information is utilized as final documentation of completion of the workplan goals, objectives, and activities.

13. Form SF-425, Federal Financial Report currently approved under OMB collection number 0348-0061, replaces forms SF-269A, Financial Status Report (Short form approved under OMB collection number 0348-0038) and SF-269, Financial Status Report, (Long form approved under OMB collection number 0348-0039, (if the project had program income)). AMS expects that at minimum two (2) or a maximum of seven (7) Federal Financial Reports will be submitted depending on the duration of the grant agreement period. Additionally, a final form SF-425 is to be completed once by the awardee(s) 90 days after the expiration date of the grant period.

14. Grant Recordkeeping. AMS requires that grant recipients maintain all records pertaining to the grant for a period of 3 years after the final status report has been submitted to AMS, in accordance with Federal recordkeeping regulations. This requirement is provided in the FMPP Guidelines, which are published at AMS' Marketing Services Branch Web site at: http://www.ams.usda.gov/FMPP.

The 2008 Farm Bill increases funding for grants under FMPP, allocating mandatory funds from the Commodity Credit Corporation, from 2009 through 2012 with $5 million for each of FY 2009 through 2010, and $10 million for each of FY 2011 and 2012. Additionally, not less than 10 percent of the grant funds in a fiscal year shall be used to support the use of electronic benefit transfers (EBT) for Federal nutrition programs at farmers' markets. Eligible EBT projects must (1) not be used for funding the ongoing cost of carrying out any EBT project; and (2) demonstrate a plan to continue to provide EBT card access at one or more farmers' markets following the receipt of a grant.

With the increase in funds available annually and focus of funding new EBT projects, AMS anticipates an increase in the number of applications submitted. As such, AMS submits the following revisions in information collection:

Estimate of Burden: Public reporting burden for this collection of information is estimated to average 7.168 hours per response.

Respondents: Agricultural Cooperatives, Producer Networks, or Producer Associations; Local Governments; Nonprofit Corporations; Public Benefit Corporations; Economic Development Corporations; Regional Farmers' Market Authorities; and Tribal Governments.

Estimated annual number of respondents: 1,500.

Estimated annual number of responses per respondent: 1.94.

Estimated annual number of responses: 2,915.

Estimated total annual burden on the respondents: 20,896 hours.

AMS is committed to compliance with the Government Paperwork Elimination Act that requires Government agencies in general to provide the public the option of submitting information or transacting business electronically to the maximum extent possible:

• The SF and AD forms can be filled out electronically and printed out for submission to AMS with original signatures.

• The voluntary “FMPP Proposal Narrative Form” and “FMPP Supplemental Budget Summary Form” can be filled electronically and printed out for submission.

For Grants.gov applicants all SF and AD forms, as well as the proposal narrative and eligibility statement, can also be filled out electronically and submitted as an attachment through Grants.gov during the FMPP application process. Additionally, Grants.gov applicants are not required to submit any additional (hard copy) paperwork to AMS.

Comments are invited on: (1) Whether the collection of information is necessary for the proper performance of the functions of the agency, including whether this information will have practical utility; (2) the accuracy of the agency's estimate of the burden of this collection of information including the validity of the methodology and assumptions used; (3) ways to enhance the quality, utility, and clarity of the information to be collected; and (4) ways to minimize the burden of the collection of information on those who are to respond, including the use of appropriate automated, electronic, mechanical, or other technological collection techniques or other forms of information technology.

All comments received by AMS will be available for public inspection during regular business hours, 8 a.m. to 4:30 p.m. Eastern Time, Monday through Friday, at the same address; and can be viewed via the Internet at http://www.regulations.gov. All responses to this notice will be summarized and included in the request for OMB approval. All comments will become a matter of public record.

Dated: September 27, 2010.
David R. Shipman,
Acting Administrator, Agricultural Marketing Service.

[FR Doc. 2010-24625 Filed 9-30-10; 8:45 am]

BILLING CODE 3410-02-P